NATIONAL CREDIT UNION ADMINISTRATION

Sunshine Act Meetings

TIME AND DATE: 10 a.m., October 19, 2023.

PLACE: Board Room, 7th Floor, Room 7B, 1775 Duke Street (All visitors must use Diagonal Road Entrance), Alexandria, VA 22314-3428.

STATUS: Open.

MATTERS TO BE CONSIDERED:

1. Board Briefing, Cybersecurity Update.

2. NCUA Rules and Regulations, Part 745, Simplification of Insurance Rules.

3. NCUA Rules and Regulations, Parts 701, 741, 746, 748, and 752, Fair Hiring in Banking.

CONTACT PERSON FOR MORE INFORMATION: Melane Conyers-Ausbrooks, Secretary of the Board, Telephone: 703-518-6304.

Melane Conyers-Ausbrooks,
Secretary of the Board.

[FR Doc. 2023-22943 Filed 10-13-23; 11:15 am]

BILLING CODE 7535-01-P